DEPARTMENT OF COMMERCE

Foreign-Trade Zones Board

[Docket No. 33-2007]

Foreign-Trade Zone 147—Reading, PA; Application for Subzone Souriau USA (Aerospace, Industrial and R/F Connectors); York, PA

An application has been submitted to the Foreign-Trade Zones Board (the Board) by the Foreign-Trade Zone Corporation of Southeastern Pennsylvania, grantee of FTZ 147, requesting special-purpose subzone status for the manufacture of aerospace, industrial and R/F connectors at the facility of Souriau USA (Souriau), located in York, Pennsylvania. The application was submitted pursuant to the provisions of the Foreign-Trade Zones Act, as amended (19 U.S.C. 81a-81u), and the regulations of the Board (15 CFR part 400). It was formally filed on August 3, 2007.

The Souriau facility (110 employees, 5 acres) is located at 25 Grumbacher Road, in York, Pennsylvania. The facility will be used for the kitting of connector parts and manufacturing and storage of cable connectors and assemblies (HTS duty rate ranges from duty-free 3.5%). Components and materials sourced from abroad (representing 95% of the value of the finished product) include: Electrical connectors; and male and female contacts (duty rate 3.5%).

FTZ procedures would exempt Souriau from customs duty payments on the foreign components used in export production. The company anticipates that some 95 percent of the plant's shipments will be exported. On its domestic sales, Souriau would be able to choose the duty rates during customs entry procedures that apply to finished connectors and kits for the foreign inputs noted above. The request indicates that the savings from FTZ procedures would help improve the plant's international competitiveness.

In accordance with the Board's regulations, a member of the FTZ staff has been designated examiner to investigate the application and report to the Board.

Public comment is invited from interested parties. Submissions (original and 3 copies) shall be addressed to the Board's Executive Secretary at the address below. The closing period for their receipt is October 12, 2007. Rebuttal comments in response to material submitted during the foregoing period may be submitted during the subsequent 15-day period to October 29, 2007.

A copy of the application and accompanying exhibits will be available for public inspection at each of the following locations:

U.S. Department of Commerce Export Assistance Center, 2 So. George Street, Cumberland House, Millersville, PA 17551-0302.

Office of the Executive Secretary, Foreign-Trade Zones Board, U.S. Department of Commerce, Room 2111, 1401 Constitution Ave., NW., Washington, DC 20230.

FOR FURTHER INFORMATION CONTACT: Elizabeth Whiteman at Elizabeth_Whiteman@ita.doc.gov or (202) 482-0473.

Dated: August 3, 2007.
Andrew McGilvray,
Executive Secretary.

[FR Doc. 07-3940 Filed 8-10-07; 8:45 am]

BILLING CODE 3510-DS-M